FEDERAL COMMUNICATIONS COMMISSION

47 CFR Part 73

[DA 03-1950, MM Docket No. 00-99; RM-9858]

Digital Television Broadcast Services; Anchorage, AK

AGENCY: Federal Communications Commission.

ACTION: Final rule.

SUMMARY: The Commission, at the request of Fireweed Communications Corporation, licensee of Station KYES-TV, substitutes DTV Channel 6c for DTV Channel 22 at Anchorage, Alaska. See 65 FR 36808, June 12, 2000. DTV channel 6c can be allotted to Anchorage, Alaska, in compliance with the principle community coverage requirements of § 73.625(a) at reference coordinates 61-20-10 N. with a power of 45, HAAT of 250 meters and with a DTV service population of 289 thousand. With this action, this proceeding is terminated.

DATES: Effective August 7, 2003.

FOR FURTHER INFORMATION CONTACT: Pam Blumenthal, Mass Media Bureau, (202) 418-1600.

SUPPLEMENTARY INFORMATION: This is a synopsis of the Commission's Report and Order, MM Docket No. 00-99, adopted June 13, 2003, and released June 23, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Alaska, is amended by removing DTV Channel 22 and adding DTV Channel 6c at Anchorage.

Federal Communications Commission.
James J. Brown,
Deputy Chief, Video Division, Media Bureau.

[FR Doc. 03-16485 Filed 6-27-03; 8:45 am]

BILLING CODE 6712-01-U